NATIONAL SCIENCE FOUNDATION

Notice of Permit Modification Received Under the Antarctic Conservation Act of 1978

AGENCY: National Science Foundation.

ACTION: Notice of permit modification request received and permit issued under the Antarctic Conservation Act of 1978, Public Law 95-541.

SUMMARY: The National Science Foundation (NSF) is required to publish a notice of requests to modify permits issued to conduct activities regulated and permits issued under the Antarctic Conservation Act of 1978. NSF has published regulations under the Antarctic Conservation Act at Title 45 Part 670 of the Code of Federal Regulations. This is the required notice of a requested permit modification and permit issued.

FOR FURTHER INFORMATION CONTACT: Nature McGinn, ACA Permit Officer, Division of Polar Programs, Rm. 755, National Science Foundation, 4201 Wilson Boulevard, Arlington, VA 22230. Or by email: ACApermits@nsf.gov.

SUPPLEMENTARY INFORMATION: The Foundation issued a permit (ACA 2014-003) to Jennifer Burns on July 18, 2012. The issued permit allows the applicant to study the interaction of Weddell seal condition and the timing of molting and reproduction. This involves capture, restrain, and sedation of adult female seals, VHF and TDR/GPS tag deployments, and visual surveys. Pups of these females are flipper-tagged. These permitted activities may take place in ASPAs 121, 155, and 157 amongst other areas in McMurdo Sound. Previous modifications, dated December 2, 2014 and November 12, 2015, covered changes to handling, sampling, marking, and tagging methods as allowed under NMFS MMPA permit #17411.

Now the applicant proposes a permit modification to extend the expiration date of her ACA permit that currently expires on February 28, 2017. This modification will extend the time allowed to conduct the permitted activities until March 31, 2017. The total number of takes and harassments will not exceed those already allowed under both the ACA and NMFS MMPA permits. The extension is primarily to allow for additional surveys. The Environmental Officer has reviewed the modification request and has determined that the amendment is not a material change to the permit, and it will have a less than a minor or transitory impact.

DATES: November 1, 2013 to March 31, 2017.

The permit modification was issued on June 14, 2016.
Nadene G. Kennedy,
Polar Coordination Specialist, Division of Polar Programs.

[FR Doc. 2016-14419 Filed 6-17-16; 8:45 am]

BILLING CODE 7555-01-P